GULF COAST ECOSYSTEM RESTORATION COUNCIL

40 CFR Part 1800

[Docket Number: 112152015-1111-11]

RIN 3600-AA00

RESTORE Act—Initial Funded Priorities List

AGENCY: Gulf Coast Ecosystem Restoration Council.

ACTION: Notice of availability.

SUMMARY: In accordance with the Resources and Ecosystems Sustainability, Tourist Opportunities, and Revived Economies of the Gulf States Act (RESTORE Act or Act), the Gulf Coast Ecosystem Restoration Council (Council) announces the availability of the Initial Funded Priorities List (FPL). The FPL sets forth the initial activities that the Council will fund and prioritize for further consideration.

DATES: December 15, 2015.

ADDRESSES: The Council posted all comments on the draft version of the FPL on its Web site, http://www.restorethegulf.gov/. All comments received are part of the public record and subject to public disclosure.

FOR FURTHER INFORMATION CONTACT: Will Spoon at 504-239-9814.

SUPPLEMENTARY INFORMATION:

Background

In 2010, the Deepwater Horizon oil spill caused extensive damage to the Gulf Coast's natural resources, devastating the economies and communities that rely on it. In an effort to help the region rebuild in the wake of the spill, Congress passed and the President signed the RESTORE Act, Public Law 112-141, sections 1601-1608, 126 Stat. 588 (Jul. 6, 2012). The Act created the Gulf Coast Ecosystem Restoration Trust Fund (Trust Fund) and dedicates eighty percent (80%) of any civil and administrative penalties paid by parties responsible for the Deepwater Horizon oil spill under the Clean Water Act, after the date of enactment, to the Trust Fund. On January 3, 2013, the United States announced that Transocean Deepwater Inc. and related entities agreed to pay $1 billion in civil penalties for violating the Clean Water Act in relation to their conduct in the Deepwater Horizon oil spill. The settlement was approved by the court in February 2013, and pursuant to the Act approximately $816 million (including interest) has been paid into the Trust Fund.

In addition to creating the Trust Fund, the Act established the Council, which is chaired by the Secretary of Commerce and includes the Governors of Alabama, Florida, Louisiana, Mississippi, and Texas, and the Secretaries of the U.S. Departments of Agriculture, the Army, Homeland Security, and the Interior, and the Administrator of the U.S. Environmental Protection Agency.

Under the Act, the Council will administer a portion of the Trust Fund known as the Council-Selected Restoration Component in order to “undertake projects and programs, using the best available science, that would restore and protect the natural resources, ecosystems, fisheries, marine and wildlife habitats, beaches, coastal wetlands, and economy of the Gulf Coast.” In August 2013 the Council approved an Initial Comprehensive Plan (Initial Plan) (please see http://www.restorethegulf.gov/sites/default/files/GCERCCompPlanFactSheet_0.pdf and http://www.restorethegulf.gov/sites/default/files/FinalInitialComprehensivePlan.pdf) that outlines an overarching vision for Gulf restoration and includes the following five goals: (1) Restore and conserve habitat; (2) restore water quality; (3) replenish and protect living coastal and marine resources; (4) enhance community resilience; and (5) restore and revitalize the gulf economy.

As a supplement to the Initial Plan and pursuant to the requirement in the Restore Act to draft a “prioritized list of specific projects and programs to be funded,” the Council is now publishing the initial FPL that lists the activities which the Council will fund and prioritize for further consideration.

Summary: On August 13, 2015 the Council published the draft version of the FPL for a 45-day public notice and comment period, The comment period closed on September 28, 2015.

After reviewing and considering all of the public comments, on December 9, 2015 the Council approved the FPL.

The members of the Council collaborated in creating the FPL that responds to ecological needs regardless of jurisdictional boundaries. The FPL will provide near-term “on-the-ground” ecosystem benefits, while also building a planning and science foundation for future success. The FPL focuses on ten key watersheds across the Gulf in order to concentrate and leverage available funds in addressing critical ecological needs in high-priority locations. It focuses on habitat and water quality, and includes restoration and conservation activities that can be implemented in the near term. It also supports project-specific planning efforts necessary to advance large-scale restoration. The comprehensive planning and monitoring efforts included in the FPL will provide Gulf-wide benefits into the future.

The Council intends to play a key role in helping to ensure that the Gulf's natural resources are sustainable and available for future generations. Currently available Gulf restoration funds and those that may become available in the future represent a great responsibility. The ongoing involvement of the people who live, work and play in the Gulf region is critical to ensuring that these monies are used wisely and effectively. The Council thanks all those who have participated in the process thus far, and offers thanks in advance to those who will take the time to again offer thoughts on how we can collectively help restore the Gulf.

Document Availability: Copies of the FPL are available at the following office during regular business hours: Gulf Coast Ecosystem Restoration Council, Hale Boggs Federal Building, 500 Poydras Street, Suite 1117, New Orleans, LA 70130.

Electronic versions of the FPL can be viewed and downloaded at www.restorethegulf.gov.

Legal Authority: The statutory program authority for the FPL is found at 33 U.S.C. 1321(t)(2).

Dated: December 9, 2015.
Justin R. Ehrenwerth,
Executive Director, Gulf Coast Ecosystem Restoration Council.

[FR Doc. 2015-31463 Filed 12-14-15; 8:45 am]

BILLING CODE 3510-EA-P